FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Survey of Consumer Finances (FR 3059; OMB No. 7100-0287).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR 3059.

Final Approval Under OMB Delegated Authority of the Extension for Three Years, Without Revision, of the Following Information Collection

Collection title: Survey of Consumer Finances.

Collection identifier: FR 3059.

OMB control number: 7100-0287.

General description of collection: This triennial survey is the only source of representative information on the structure of U.S. families' finances. The survey collects data on the assets, debts, income, work history, pension rights, use of financial services, and attitudes of a sample of U.S. families. Because the ownership of some assets is relatively concentrated in a small number of families, the survey makes a special effort to ensure proper representation of such assets by systematically oversampling wealthier families. For the 2025 survey, the Board will conduct: (1) up to 150 interviews averaging about 110 minutes as a test or series of tests of the survey procedures in 2025, and (2) up to 7,000 interviews averaging about 110 minutes (main survey) between April 2025 and March 2026.

Frequency: Triennial.

Respondents: U.S. families.

Total estimated number of respondents: 7,150.

Total estimated annual burden hours: 4,410.

Current actions: On March 7, 2024, the Board published a notice in the Federal Register (89 FR 16571) requesting public comment for 60 days on the extension, without revision, of the FR 3059. The comment period for this notice expired on May 6, 2024. The Board did not receive any comments.

Board of Governors of the Federal Reserve System, July 25, 2024.
Michele Taylor Fennell,
Deputy Associate Secretary of the Board.

[FR Doc. 2024-16768 Filed 7-30-24; 8:45 am]

BILLING CODE 6210-01-P